Proclamation 10338 of January 31, 2022

National Teen Dating Violence Awareness and Prevention Month, 2022

By the President of the United States of America

A Proclamation

During National Teen Dating Violence Awareness and Prevention Month, we recommit ourselves to ensuring our society is one in which all young people can live fulfilling and productive lives free of violence and fear.

Teen dating violence takes many forms, including physical or sexual assault, stalking, coercive and controlling behavior, emotional abuse, harassment, and exploitation. It can occur in person, online, or through various forms of technology. Centers for Disease Control and Prevention research shows that more than 8 percent of high school students in the United States reported experiencing physical or sexual dating violence over the course of a 1-year period, with young women and LGBTQI+ youth facing the highest rates. Young people who are survivors of teen dating violence can suffer from depression, substance abuse, risk of suicide, eating disorders, poor academic outcomes, unintended pregnancy, and other struggles. Sadly, survivors of teenage dating violence are more likely to be revictimized as adults. These effects are compounded for girls and young women of color, who are less often recognized as survivors of dating and sexual violence and face additional barriers to seeking help.

My Administration is committed to supporting programs that are proven to help preteens and teens develop safe and healthy relationships. We have released a range of new resources to equip communities with effective tools to prevent and address teen dating violence. These tools will help teens stay safe online and when they use electronic devices; help colleges and universities respond effectively to dating violence, sexual assault, stalking and other forms of abuse; and provide resources and training programs that prevent abuse and promote healthy relationships. Information on these programs, as well as other resources, are available at VetoViolence.CDC.gov. We are also enforcing Title IX's protections for students on the basis of gender identity and sexual orientation to support transgender students who experience higher rates of violence.

During National Teen Dating Violence Awareness and Prevention Month, we recommit ourselves to ending this scourge of our society and providing our young people every chance to live the fulfilling and productive lives they deserve.

NOW, THEREFORE, I, JOSEPH R. BIDEN JR., President of the United States of America, by virtue of the authority vested in me by the Constitution and the laws of the United States, do hereby proclaim February 2022 as National Teen Dating Violence Awareness and Prevention Month. I call upon everyone to educate themselves and others about teen dating violence so that together we can stop it.

IN WITNESS WHEREOF, I have hereunto set my hand this thirty-first day of January, in the year of our Lord two thousand twenty-two, and of the Independence of the United States of America the two hundred and forty-sixth.

[FR Doc. 2022-02458

Filed 2-2-22; 11:15 am]

Billing code 3395-F2-P